DEPARTMENT OF COMMERCE

Office of the Secretary

15 CFR Part 4

[Docket No. 051215336-5336-01]

RIN 0605-AA21

Disclosure of Government Information; Addition of Designated Official

AGENCY: Office of the Secretary; Department of Commerce.

ACTION: Final rule.

SUMMARY: This final rule amends the Department of Commerce's Freedom of Information Act regulations (15 CFR part 4) by adding an official authorized To deny requests for records under the Freedom of Information Act, and requests for correction or amendment under the Privacy Act, for the Technology Administration.

DATES: Effective December 16, 2005.

FOR FURTHER INFORMATION CONTACT: Philip Greene, Freedom of Information Officer, Office of the Chief Counsel, Technology Administration, 202-482-1984.

SUPPLEMENTARY INFORMATION: Appendix B to 15 CFR part 4 designates the officials authorized to deny requests for records under the Freedom of Information Act (FOIA), and requests for records and requests for correction or amendment under the Privacy Act (PA). The Department of Commerce (Department) amends its regulations to add the Deputy Assistant Secretary for Technology Policy as a designated official for the Technology Administration.

Classification

Executive Order 12866

This rule is not subject to E.O. 12866.

Administrative Procedure Act

This rule of agency procedure and practice is not subject to the requirement to provide prior notice and an opportunity for comment. (5 U.S.C. 553(b)(A)). The Department also finds good cause to waive prior notice and an opportunity for public comment because it is unnecessary. (5 U.S.C. 553(b)(B)). This rule amends the regulations to add the Deputy Assistant Secretary for Technology Policy as a designated official for the Technology Administration in denying requests for records under the FOIA, and requests for records and requests for correction or amendment under the PA. The addition of this individual to the list of designated officials is a procedural matter for the Department and does not affect the rights of the public. Therefore, the Department finds that it is unnecessary to provide prior notice and an opportunity for comment on this action.

The Department finds good cause to waive the 30-day delay in effectiveness because the addition of this individual to the list of designated officials is a procedural matter for the Department and does not affect the rights of the public. Therefore, the Department makes this rule effective upon publication.

Regulatory Flexibility Act

Because notice and opportunity for comment are not required pursuant to 5 U.S.C. 553 or any other law, the analytical requirements of the Regulatory Flexibility Act (5 U.S.C. 601 et seq.) are inapplicable. Therefore, a regulatory flexibility analysis is not required and has not been prepared.

For the reasons stated in the preamble, the Department amends appendix B to part 4, title 15 of the Code of Federal Regulations as follows:

Appendix B to Part 4—Officials Authorized to Deny Requests for Records Under the Freedom of Information Act, and Requests for Records and Requests for Correction or Amendment Under the Privacy Act

1. The authority citation for part 4 continues to read as follows:

Authority: 5 U.S.C. 301; 5 U.S.C. 552; 5 U.S.C. 552a; 5 U.S.C. 553; 31 U.S.C. 3717; 44 U.S.C. 3101; Reorganization Plan No. 5 of 1950.

Appendix B to 15 CFR Part 4 [Amended]

2. Amend Appendix B to 15 CFR Part 4 by adding the position of “Deputy Assistant Secretary for Technology Policy” following the “Assistant Secretary for Technology Policy” for the Technology Administration.

Dated: December 16, 2005.
Brenda Dolan,
Departmental Freedom of Information and Privacy Act Officer.

[FR Doc. 05-24295 Filed 12-16-05; 11:24 am]

BILLING CODE 3510-18-P